GENERAL SERVICES ADMINISTRATION

[FAI N01]

Federal Acquisition Institute/Defense Acquisition University Vendor Meeting

AGENCY: Office of the Chief Acquisition Officer, GSA.

ACTION: Notice of meeting.

SUMMARY: The Federal Acquisition Institute (FAI) and the Defense Acquisition University (DAU) will hold a vendor meeting to provide information on shared initiatives and activities. FAI will describe plans and requirements for training related services under the Acquisition Workforce Training Fund (AWTF). DAU will provide an update on planned changes to contracting courses.

Agencies are required to report and deposit five percent of administrative fees from Governmentwide contracts and multiple award schedules into the AWTF. Its purpose is to ensure that the Federal acquisition workforce adapts to fundamental changes in Federal acquisition and acquires new skills and perspectives to contribute effectively in the changing environment.

FAI and DAU work together to address many of the acquisition workforce training needs of the Federal Government. Partnering with DAU enables FAI to build upon existing DAU training, develop Governmentwide curriculum, and promote a cohesive and agile workforce. At the vendor meeting, DAU will present information on recent contracting curriculum changes and review current curriculum development efforts. FAI will discuss how the curriculum changes impact the Federal acquisition workforce.

Who Should Attend: Training developers, vendors with Commercial-Off-The-Shelf (COTS) training products, vendors with capabilities related to the full Instructional System Design (ISD) methodologies, and acquisition training experts.

DATES: The meeting will be held March 17, 2005, from 1 p.m. to 3 p.m.

ADDRESSES: The meeting will be held at the GS Building, GSA Auditorium, 1800 F Street, NW, Washington, DC. Register by e-mail: Jamie.ready@gsa.gov, or call (703) 558-4092.

FOR FURTHER INFORMATION CONTACT: Ms. Jamie Ready, by phone at (703) 558-4092, or by e-mail at Jamie.ready@gsa.gov.

Dated: March 4, 2005.
Pat Brooks,
Director, Office of National and Regional Acquisition Development.

[FR Doc. 05-4636 Filed 3-9-05; 8:45 am]

BILLING CODE 6820-61-S